FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 28, 2016.

A. Federal Reserve Bank of Kansas City (Dennis Denney, Assistant Vice President) 1 Memorial Drive, Kansas City, Missouri 64198-0001:

1. Kristina Davidson, Greenwood Village, Colorado; and Zachary Davidson and Tiffany Davidson, both of Nine Mile Falls, Washington; Shauna Cumin and Macaulay Kerr, both of Billings, Montana; Robert Kerr, Spokane Washington; Scott Kerr, Satellite Beach, Florida; the Joshua K. Davidson Irrevocable Trust, Brighton, Colorado; and the Michelle M. Davidson Irrevocable Trust, Englewood, Colorado, as members of the Davidson Family group and acting in concert; to retain voting shares of First American Bancorp, and thereby indirectly retain voting shares of First American State Bank, both in Greenwood Village, Colorado.

Board of Governors of the Federal Reserve System, January 8, 2016.
Margaret McCloskey Shanks,
Deputy Secretary of the Board.

[FR Doc. 2016-00512 Filed 1-12-16; 8:45 am]

BILLING CODE 6210-01-P